DEPARTMENT OF STATE

[Public Notice: 7122]

30-Day Notice of Proposed Information Collection: Recording, Reporting, and Data Collection Requirements Under 22 CFR Part 62, the Exchange Visitor Program—Student and Exchange Visitor Information System (SEVIS); Forms DS-3036, DS-3037, and DS-7000, OMB No. 1405-0147

ACTION: Notice of request for public comment and submission to OMB of proposed collection of information.

SUMMARY: The Department of State has submitted the following information collection request to the Office of Management and Budget (OMB) for approval in accordance with the Paperwork Reduction Act of 1995.

• Title of Information Collection: Recording, Reporting, and Data Collection Requirements Under 22 CFR Part 62 (DS-7000), the Exchange Visitor Program Application (Form DS-3036); and Update of Information on Exchange Visitor Program Sponsor (Form DS-3037).

• OMB Control Number: 1405-0147.

• Type of Request: Revision of a Currently Approved Collection.

• Originating Office: Bureau of Educational and Cultural Affairs, Office of Designation, ECA/EC/D.

• Form Number: Forms DS-3036, DS-3037 and DS-7000.

• Respondents: U.S. government and public and private organizations wishing to become Department of State designated sponsors authorized to conduct exchange visitor programs, and Department of State designated sponsors.

• Estimated Number of Respondents: 191,810 (DS-3036—150; DS-3037—1,460; DS-7000—190,200).

• Estimated Number of Responses: 1,623,447 (DS-3036—150; DS-3037—2,920; DS-7000—1,620,377).

• Average Hours Per Response: DS-3036—8 hours; DS-3037—20 minutes; DS-7000—45 minutes.

• Total Estimated Burden: 1,323,260 (DS-3036—1,200 hours; DS-3037—973 hours; DS-7000—1,321,087).

• Frequency: On Occasion.

• Obligation to Respond: Required to Obtain or Retain a Benefit.

DATES: Submit comments to the Office of Management and Budget (OMB) for up to 30 days from August 17, 2010.

ADDRESSES: Direct comments to the Department of State Desk Officer in the Office of Information and Regulatory Affairs at the Office of Management and Budget (OMB). You may submit comments by the following methods:

• E-mail: oira_submission@omb.eop.gov. You must include the DS form number, information collection title, and OMB control number in the subject line of your message.

• Fax: 202-395-5806. Attention: Desk Officer for Department of State.

FOR FURTHER INFORMATION CONTACT: You may obtain copies of the proposed information collection and supporting documents from Stanley S. Colvin, Deputy Assistant Secretary for Private Sector Exchange, Department of State, 2200 C Street, NW., 5th Floor, Washington, DC 20522-0505, who may be reached on (202) 632-6090, fax at 202-632-2701 or e-mail at JExchanges@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of proposed collection:

The collection is the continuation of information collected and needed by the Bureau of Educational and Cultural Affairs in administering the Exchange Visitor Program (J-Visa) under the provisions of the Mutual Educational and Cultural Exchange Act, as amended. The forms have been revised to clarify language used and remove unnecessary data collection.

Methodology:

Access to Forms DS-3036 and DS-3037 are found in the Student and Exchange Visitor Information System (SEVIS).

Dated: August 10, 2010.
Stanley S. Colvin,
Deputy Assistant Secretary for Private Sector Exchange, Bureau of Educational and Cultural Affairs, U.S. Department of State.

[FR Doc. 2010-20307 Filed 8-16-10; 8:45 am]

BILLING CODE 4710-05-P